NATIONAL SCIENCE FOUNDATION

Committee on Equal Opportunities in Science and Engineering Notice of Meeting

In accordance with the Federal Advisory Committee Act (Pub. L. 92-463, as amended), the National Science Foundation announces the following meeting:

Name: Committee on Equal Opportunities in Science and Engineering (CEOSE) #1173.

Dates/Time: June 8, 2016 1:00 p.m.-5:30 p.m., June 9, 2016 8:30 a.m.-3:30 p.m.

Place: National Science Foundation (NSF), 4201 Wilson Boulevard, Arlington, VA 22230. To help facilitate your entry into the building, please contact Vickie Fung (vfung@nsf.gov) on or prior to June 6, 2016.

Type of Meeting: Open.

Contact Person: Dr. Bernice Anderson, Senior Advisor and CEOSE Executive Secretary, Office of Integrative Activities (OIA), National Science Foundation, 4201 Wilson Boulevard, Arlington, VA 22230. Contact Information: 703-292-8040/banderso@nsf.gov.

Minutes: Meeting minutes and other information may be obtained from the CEOSE Executive Secretary at the above address or the Web site at http://www.nsf.gov/od/oia/activities/ceose/index.jsp.

Purpose of Meeting: To study data, programs, policies, and other information pertinent to the National Science Foundation and to provide advice and recommendations concerning broadening participation in science and engineering.

Agenda

Opening Statement by the CEOSE Chair

NSF Executive Liaison Report

Updates from the Federal Liaisons

Presentation: NSF INCLUDES (Inclusion across the Nation of Communities of Learners that have been Underrepresented for Diversity in Engineering and Science)

Leadership Discussion: Broadening Participation in STEM: Disciplinary Highlights

Presentation: Science of Broadening Participation

Panel Discussion: Evaluation of NSF BP Programs in EHR (Directorate for Education and Human Resources)

Working Session with EAC (Evaluation and Assessment Capability): Framework for a Broadening Participation Accountability System—Part II

Work Session: 2015-2016 CEOSE Biennial Report to Congress

Dated: May 8, 2016.
Crystal Robinson,
Committee Management Officer.

[FR Doc. 2016-11166 Filed 5-11-16; 8:45 am]

BILLING CODE 7555-01-P